DEPARTMENT OF THE INTERIOR

National Park Service

Minor Boundary Revision at Virgin Islands National Park

AGENCY: National Park Service, Interior.

ACTION: Notification of boundary revision.

SUMMARY: Notice is hereby given that, pursuant to 16 U.S.C. 4601-9(c)(1), the boundary of the Virgin Islands National Park is modified to include an additional 215.03 acres of land identified as Tract 04-116. The land is located at Estate Beverhourdtsberg on the Island of St. John, immediately adjacent to the current boundary of the Virgin Islands National Park. The boundary revision is depicted on Map No. 161/92,009A dated October 2010. The map is available for inspection at the following locations: National Park Service, Southeast Region Land Resources Program Center, 1924 Building, 100 Alabama Street, SW., Atlanta, Georgia 30301 and National Park Service, Department of the Interior, Washington, DC 20240.

FOR FURTHER INFORMATION CONTACT: National Park Service, Chief, Southeast Region Land Resources Program Center, 1924 Building, 100 Alabama Street, SW., Atlanta, Georgia 30303, (404) 507-5664.

DATES: The effective date of this boundary revision is July 1, 2011.

SUPPLEMENTARY INFORMATION: 16 U.S.C. 4601-9(c)(1) provides that, after notifying the House Committee on Natural Resources and the Senate Committee on Energy and Natural Resources, the Secretary of the Interior is authorized to make this boundary revision upon publication of notice in the Federal Register. The Committees have been notified of this boundary revision. The proposed boundary revision would make a significant contribution to the purposes for which the national park was established by enabling the Service to efficiently manage and protect significant resources similar to that already protected within the present park boundary. This land includes much of the upper watershed for the Fish Bay drainage system which ultimately drains into national park waters. In addition, this land contains numerous historic sites related to the plantation era on St. John.

Dated: March 30, 2011.
Gordon Wissinger,
Acting Regional Director, Southeast Region.

[FR Doc. 2011-16644 Filed 6-30-11; 8:45 am]

BILLING CODE 4310-VP-P